DEPARTMENT OF STATE

[Public Notice 4472]

30-Day Notice of Proposed Information Collection: Form DS-4024, American Citizens Services Internet Based Registration Service (IBRS); OMB Control Number 1405-XXXX

AGENCY: Department of State.

ACTION: Notice.

SUMMARY: The Department of State has submitted the following information collection request to the Office of Management and Budget (OMB) for approval in accordance with the Paperwork Reduction Act of 1995. This new Internet Based Information Collection system permits U.S. citizens who travel or reside abroad to register their destination and emergency contacts with the Department of State. This facilitates the provision of emergency assistance to U.S. citizens during crisis or disaster. Comments should be submitted within 30 days of the publication of this notice.

The following summarizes the information collection proposal to be submitted to OMB:

Type of Request: New Collection.

Originating Office: Bureau of Consular Affairs, Overseas Citizens Services CA/OCS.

Title of Information Collection: American Citizens Services Internet Based Registration Service (IBRS).

Frequency: On ocassion.

Form Number: DS-4024.

Respondents: American citizens traveling and residing overseas.

Estimated Number of Respondents: An estimated 3.2 million.

Average Hours Per Response: 10 minutes.

Total Estimated Burden: 533,333 hours.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Mike Meszaros, Bureau of Consular Affairs, Overseas Citizens Services, Office of Policy Review and Interagency Liaison, 1800 G Street NW., Washington, DC 20006 who may be reached on (202) 312-9750.

Dated: August 12, 2003.
Maura Harty,
Assistant Secretary, Bureau of Consular Affairs, Department of State.

[FR Doc. 03-22912 Filed 9-8-03; 8:45 am]

BILLING CODE 4710-06-P